DEPARTMENT OF THE INTERIOR

Bureau of Land Management

[LLNVS01000 L51010000 ER0000 LVRWF1806150; MO# 4500130982]

Notice of Realty Action: Classification for Lease and/or Conveyance for Recreation and Public Purposes of Public Lands (N-95930) for a K-12 School in the City of Henderson, Clark County, Nevada

AGENCY: Bureau of Land Management, Interior.

ACTION: Notice of Realty Action.

SUMMARY: The Bureau of Land Management (BLM), Las Vegas Field Office, has examined and found suitable for classification for lease and subsequent conveyance under the provisions of the Recreation and Public Purposes (R&PP) Act, as amended, Sec. 7 of the Taylor Grazing Act, and Executive Order No. 6910, 15 acres of public land within the City of Henderson, Clark County, Nevada. The Calvary Chapel proposes to use the land to build a church and K-12 school to meet the future needs of the community.

DATES: Submit written comments regarding this classification and lease (serialized N-95930) on or before October 4, 2019. Comments may be mailed or hand delivered to the BLM office address below, or faxed to 702-515-5010. The BLM will not consider comments received via telephone calls or email.

ADDRESSES: Mail written comments to the BLM Las Vegas Field Office, Assistant Field Manager, Division of Lands, 4701 North Torrey Pines Drive, Las Vegas, NV 89130. Information including but not limited to, a development and management plan and documentation relating to compliance with applicable environmental and cultural resource laws, is available for review during business hours, 8 a.m. to 4:30 p.m. Pacific Time, Monday through Friday, except during Federal holidays, at the BLM Las Vegas Field Office, 4701 North Torrey Pines Drive, Las Vegas, Nevada 89130.

FOR FURTHER INFORMATION CONTACT: Sheryl May, Realty Specialist by telephone at 702-515-5196. Persons who use a telecommunications device for the deaf may call the Federal Relay Service (FRS) at 1-800-877-8339 to leave a message or question for the above individual. The FRS is available 24 hours a day, 7 days a week. You will receive a reply during normal business hours.

SUPPLEMENTARY INFORMATION: The lease parcel is located along portions of Volunteer Boulevard, Welpman Way, and Gilespie Street in the City of Henderson and is described as:

Mount Diablo Meridian, Nevada

T. 23 S., R. 61 E.,

Sec. 9, S½SW¼NW¼SE¼ and NW¼SW¼SE¼.

The area described contains 15 acres in Clark County, Nevada.

The Calvary Chapel filed an application to develop the site as a 16,000-square foot K-12 school building to include classrooms, offices, nursery, kitchen, restrooms, utility/storage rooms, and a lobby. A 20,000-square foot church building will include a worship center, offices, lobby, nursery, kitchen, restrooms, and utility/storage rooms. Buildings will be modular and erected or delivered on foundations prepared within the site. Onsite improvements include lighted paved parking, access drives, sidewalks, landscaping, walkways, meditation path, landscaping, play/recreation areas, and gathering/multi-use areas. Offsite improvements will be developed as required by governing agencies.

The play area will support uses such as volleyball, basketball, recess activities, and fair-weather gatherings. The meditation paths will provide a natural environment, enhanced by dispersed seating and desert landscape screening. This area may also be used for outdoor education such as plant identification or interpretation. The play area and meditation paths are planned for day use activities. Additional information pertaining to this publication, plan of development, and site plan is located in casefile N-95930, which is available for review at the BLM Las Vegas Field Office at the above address.

The lands are not needed for any Federal purposes, and do not provide access to federal lands used for recreation. Lease or conveyance of the lands for recreational or public purposes use is consistent with the BLM Las Vegas Resource Management Plan dated October 5, 1998, and would be in the public interest. The Calvary Chapel has not applied for more than the 6,400-acre limitation for recreation uses in a year, nor more than 640 acres for each of the programs involving public resources other than recreation.

All interested parties will receive a copy of this notice once it is published in the Federal Register. A copy of the Notice with information about this realty action will publish in the newspaper of local circulation once a week for three consecutive weeks. The regulations at 43 CFR 2741 addressing requirements and procedures for conveyances under the R&PP Act do not require a public meeting.

Upon publication of the Notice in the Federal Register, the lands will be segregated from all other forms of appropriation under public lands laws, except for the lease or conveyance under the R&PP Act and leasing under the mineral leasing laws. The segregation effect shall terminate upon issuance of the lease, upon final rejection of the application, or 18 months from the date of this notice, whichever occurs first.

The lease or conveyance of the land, when issued, will be subject to the following terms, conditions, and reservations:

1. A right-of-way thereon for ditches and canals constructed by the authority of the United States Act of August 30, 1890 (26 Stat. 391; 43 U.S.C. 945).

2. Provisions of the R&PP Act and to all applicable regulations of the Secretary of the Interior.

3. All mineral deposits in the land so patented, and the right to prospect for, mine, and remove such deposits from the same under applicable law and regulations as established by the Secretary of the Interior are reserved to the United States, together with all necessary access and exit rights.

4. Lease or conveyance of the parcel is subject to valid existing rights.

5. An appropriate indemnification clause protecting the United States from claims arising out of the lessee's/patentee's use, occupancy, or occupations on the leased/patented lands.

6. Any other reservations that the authorized officer determines appropriate to ensure public access and proper management of Federal lands and interests therein.

Any lease and conveyance will also contain any terms or conditions required by law (including, but not limited to, any terms or conditions required by 43 CFR 2741.4), and will contain an appropriate indemnification clause protecting the United States from claims arising out of the lessee's/patentee's use, occupancy, or operations on the leased/patented lands. It will also contain any other terms and conditions deemed necessary and appropriate by the Authorized Officer.

Interested persons may submit comments involving the suitability of the land for development of a church and K-12 school in the City of Henderson. Comments on the classification are restricted to whether the land is physically suited for the proposal, whether the use will maximize the future use or uses of the land, whether the use is consistent with local planning and zoning, or if the use is consistent with state and Federal programs.

Interested parties may submit comments regarding the specific use proposed in the application, plan of development and management, and whether the BLM followed proper administrative procedures in reaching the decision to lease and convey under the R&PP Act.

Before including your address, phone number, email address, or other personally identifiable information in any comment, be aware that your entire comment including your personally identifiable information may be made publicly available at any time. While you can ask the BLM in your comment to withhold your personally identifiable information from public review, we cannot guarantee that we will be able to do so.

Only written comments submitted to the Assistant Field Manager, Division of Lands, BLM Las Vegas Field Office, will be considered properly filed. Any adverse comments will be reviewed by the BLM Nevada State Director or other authorized official of the Department of the Interior, who may sustain, vacate, or modify this realty action.

In the absence of any adverse comments, the decision will become effective on October 21, 2019. The lands will not be available for lease and conveyance until after the decision becomes effective.

Authority: 43 CFR 2741.5

Shonna Dooman,
Field Manager, Las Vegas Field Office.

[FR Doc. 2019-17902 Filed 8-19-19; 8:45 am]

BILLING CODE 4310-HC-P